DEPARTMENT OF EDUCATION

Applications for New Awards; Comprehensive Centers Program (CFDA 84.283B); Correction

AGENCY: Office of Elementary and Secondary Education, Department of Education.

ACTION: Notice; correction.

SUMMARY: On June 6, 2012, we published in the Federal Register (77 FR 33564) a notice inviting applications for new awards using fiscal year (FY) 2012 funds for the Comprehensive Centers program (2012 notice). The 2012 notice erroneously listed deadline dates for intergovernmental review under Executive Order (EO) 12372 and its implementing regulations in 34 CFR part 79. The Secretary had decided to waive the EO 12372 review of the 2012 notice, as authorized under part 79, but the notice did not reflect that decision. The Secretary made the decision to waive this review because we would otherwise not be able to make timely grant awards for the Comprehensive Centers program for FY 2012. We are correcting the 2012 notice to remove the requirement that applicants submit their applications for intergovernmental review.

FOR FURTHER INFORMATION CONTACT: Fran Walter, U.S. Department of Education, 400 Maryland Avenue SW., Room 3W115, Washington, DC 20202-0001. Telephone: (202) 205-9198 or by email: fran.walter@ed.gov.

If you use a telecommunications device for the deaf (TDD) or a text telephone (TTY), call the Federal Relay Service (FRS), toll free, at 1-800-877-8339.

SUPPLEMENTARY INFORMATION: We make the following corrections:

1. On page 33564, first column, under the heading DATES, we are removing the last sentence, which reads “Deadline for Intergovernmental Review: October 4, 2012”.

2. On page 33567, second column, under the heading “3. Submission Dates and Times”, we are removing the last sentence, which reads “Deadline for Intergovernmental Review: October 4, 2012”.

3. On page 33567, second column, under the heading “4. Intergovernmental Review”, we are removing the second sentence.

Accessible Format: Individuals with disabilities can obtain this document and a copy of the application package in an accessible format (e.g., braille, large print, audiotape, or computer diskette) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at www.federalregister.gov. Specifically, through the advanced search feature at this site, you can limit your search to documents published by the Department.

Dated: August 9, 2012.
Deborah S. Delisle,
Assistant Secretary for Elementary and Secondary Education.

[FR Doc. 2012-19937 Filed 8-14-12; 8:45 am]

BILLING CODE 4000-01-P